DEPARTMENT OF LABOR

Employment and Training Administration

[TA-W-51,598]

Potash Corporation of Saskachewan, Inc., Information Systems Department, North Brook, Illinois; Notice of Termination of Investigation

Pursuant to section 221 of the Trade Act of 1974, as amended, an investigation was initiated on April 25, 2003, in response to a worker petition filed on behalf of workers at Potash Corporation of Saskatchewan, Inc., Information Systems Department, North Brook, Illinois, and Aurora, North Carolina.

The petition regarding the investigation was not signed by three workers employed at each of the locations indicated in the petition and has therefore been deemed invalid. Consequently, the investigation has been terminated.

Signed in Washington, DC, this 9th day of May, 2003.
Richard Church,
Certifying Officer, Division of Trade Adjustment Assistance.

[FR Doc. 03-12564 Filed 5-19-03; 8:45 am]

BILLING CODE 4510-30-P